DEPARTMENT OF VETERANS AFFAIRS

Notice of Availability of a Draft Environmental Impact Statement for the Reconfiguration of VA Black Hills Health Care System; Comment Period Extension

AGENCY: Department of Veterans Affairs.

ACTION: Notice of availability; Comment period extension.

SUMMARY: The Department of Veterans Affairs (VA) published, in the Federal Register on October 30, 2015, the Notice of Availability of a Draft Environmental Impact Statement (EIS) for the Reconfiguration of VA Black Hills Health Care System (BHHCS) that analyzes the potential impacts of six alternatives for changes to VA's facilities in Hot Springs and Rapid City, South Dakota. In order to successfully complete historic property consultation relating to this proposed action, VA is extending the closing date for the comment period for the Draft EIS from May 5, 2016 to June 20, 2016.

DATES: All comments must be submitted by June 20, 2016.

ADDRESSES: Submit written comments on the VA BHHCS Reconfiguration Draft EIS online through www.blackhillseis.com, by email to vablackhillsfuture@va.gov, or by regular mail to Staff Assistant to the Director, VA Black Hills Health Care System, 113 Comanche Road, Fort Meade, SD 57741. Please refer to “BHHCS Reconfiguration Draft EIS” in any correspondence.

FOR FURTHER INFORMATION CONTACT: Staff Assistant to the Director, VA Black Hills Health Care System, at the address above or by email to vablackhillsfuture@va.gov.

Dated: June 9, 2016.
Janet J. Coleman,
Regulation Policy and Management Specialist, Office of the Secretary, Department of Veterans Affairs.

[FR Doc. 2016-14049 Filed 6-14-16; 8:45 am]

BILLING CODE P